DEPARTMENT OF COMMERCE

International Trade Administration

[A-201-842]

Large Residential Washers From Mexico: Final Results of the Antidumping Duty Administrative Review; 2012-2014

AGENCY: Enforcement and Compliance, International Trade Administration, Department of Commerce.

SUMMARY: On March 9, 2015, the Department of Commerce (the Department) published the preliminary results of the administrative review of the antidumping duty (AD) order on large residential washers (LRWs) from Mexico.¹ The review covers two producers/exporters of the subject merchandise: Electrolux Home Products Corp. N.V. and Electrolux Home Products de Mexico, S.A. de C.V. (collectively, Electrolux) and Samsung Electronics Co., Ltd. (Samsung). The period of review (POR) is August 3, 2012, through January 31, 2014. We gave interested parties an opportunity to comment on the Preliminary Results. After reviewing the comments received and making corrections to the margin calculation, we continue to find that Electrolux made sales of subject merchandise to the United States at prices below normal value. We also find that Samsung made no shipments of subject merchandise during the POR. Electrolux's final dumping margin is listed below in the section entitled “Final Results of the Review.”

¹ See Large Residential Washers From Mexico: Preliminary Results of the Antidumping Duty Administrative Review and Preliminary Determination of No Shipments; 2012-2014, 80 FR 12436 (March 9, 2015) (Preliminary Results).

DATES: Effective Date: September 15, 2015.

FOR FURTHER INFORMATION CONTACT: Brian Smith or Brandon Custard, AD/CVD Operations, Office II, Enforcement and Compliance, International Trade Administration, U.S. Department of Commerce, 14th Street and Constitution Avenue NW., Washington, DC 20230; telephone: (202) 482-1766 or (202) 482-1823, respectively.

SUPPLEMENTARY INFORMATION:

Background

For a complete description of the events that following the publication of the Preliminary Results, see the Issues and Decision Memorandum.² The Issues and Decision Memorandum is a public document and is on file electronically via Enforcement and Compliance's AD and Countervailing Duty (CVD) Centralized Electronic Service System (ACCESS). ACCESS is available to registered users at http://access.trade.gov and in the Central Records Unit, room B8024 of the main Department of Commerce building. In addition, a complete version of the Issues and Decision Memorandum can be accessed directly at http://enforcement.trade.gov/frn/index.html. The signed Issues and Decision Memorandum and the electronic version of the Issues and Decision Memorandum are identical in content.

² See memorandum to Paul Piquado, Assistant Secretary for Enforcement and Compliance, from Gary Taverman, Associate Deputy Assistant Secretary for Antidumping and Countervailing Duty Operations, “Issues and Decision Memorandum for the Final Results of the Antidumping Duty Administrative Review of Large Residential Washers from Mexico,” dated concurrently with and adopted by this notice (Issues and Decision Memorandum).

The Department conducted this administrative review in accordance with section 751 of the Tariff Act of 1930, as amended (the Act).

Scope of the Order

The products covered by the order are all large residential washers and certain subassemblies thereof from Mexico. The products are currently classifiable under subheadings 8450.20.0040 and 8450.20.0080 of the Harmonized Tariff System of the United States (HTSUS). Products subject to this order may also enter under HTSUS subheadings 8450.11.0040, 8450.11.0080, 8450.90.2000, and 8450.90.6000. Although the HTSUS subheadings are provided for convenience and customs purposes, the written description of the merchandise subject to this scope is dispositive.³

³ A full description of the scope of the order is contained in the Issues and Decision Memorandum. The HTSUS numbers are revised from the numbers previously stated in the scope. See Memorandum to The File entitled “Changes to the HTS Numbers to the ACE Case Reference Files for the Antidumping Duty Orders,” dated January 6, 2015.

Analysis of Comments Received

All issues raised in the case and rebuttal briefs are addressed in the Issues and Decision Memorandum. A list of the issues which parties raised and to which we respond in the Issues and Decision Memorandum is attached to this notice as Appendix I.

Final Determination of No Shipments

In the Preliminary Results, based on our analysis of U.S. Customs and Border Protection (CBP) information and information provided by Samsung, we determined that Samsung had no shipments of the subject merchandise, and, therefore, no reviewable transactions, during the POR.⁴ No party commented on our preliminary results with respect to Samsung, and no additional information has been placed on the record to call into question those preliminary results. Accordingly, for the final results of this review, we continue to find that Samsung made no shipments of the subject merchandise during the POR.

⁴ See Preliminary Results, 80 FR at 12347.

Final Results of the Review

Based on our analysis of the comments received, we made changes to the weighted-average dumping margin calculation for Electrolux. Therefore, we are assigning the following weighted-average dumping margins for the period August 3, 2012, through January 31, 2014:

Manufacturer/exporter | Weighted- average dumping margin (percent)
Electrolux Home Products Corp. NV/Electrolux Home Products de Mexico, S.A. de C.V. | 6.45

Disclosure and Public Comment

We intend to disclose the calculations performed within five days of the date of publication of this notice to parties in this proceeding in accordance with 19 CFR 351.224(b).

Assessment Rates

Pursuant to section 751(a)(2)(C) of the Act, and 19 CFR 351.212(b)(1), the Department has determined, and CBP shall assess, antidumping duties on all appropriate entries of subject merchandise in accordance with the final results of this review. The Department intends to issue appropriate assessment instructions directly to CBP 15 days after publication of the final results of this administrative review.

For Electrolux, the Department calculated ad valorem importer-specific assessment rates equal to the total amount of dumping calculated for the importer's examined sales and the total entered value of those sales. Where an importer-specific assessment rate is zero or de minimis (i.e., less than 0.5 percent), the Department will instruct CBP to liquidate these entries without regard to antidumping duties pursuant to 19 CFR 351.106(c)(2).

The Department clarified its “automatic assessment” regulation on May 6, 2003.⁵ If applicable, this clarification will apply to entries of subject merchandise during the POR produced by Electrolux or Samsung, for which the company did not know that its merchandise was destined for the United States. In such instances, we will instruct CBP to liquidate these entries at the all-others rate established in the less-than fair-value (LTFV) investigation, 36.52 percent,⁶ if there is no rate for the intermediary involved in the transaction. See Assessment Policy Notice for a full discussion of this clarification.

⁵ See Antidumping and Countervailing Duty Proceedings: Assessment of Antidumping Duties, 68 FR 23954 (May 6, 2003) (Assessment Policy Notice).

⁶ See Large Residential Washers From Mexico and the Republic of Korea: Antidumping Duty Orders, 78 FR 11148 (February 15, 2013) (AD Order).

Cash Deposit Requirements

The following deposit requirements will be effective upon publication of the notice of final results of administrative review for all shipments of the subject merchandise entered, or withdrawn from warehouse, for consumption on or after the date of publication, as provided by section 751(a)(2)(C) of the Act: (1) The cash deposit rate for Electrolux will be equal to the weighted-average dumping margin established in the final results of this administrative review; (2) for merchandise exported by manufacturers or exporters not covered in this administrative review but covered in a prior segment of the proceeding, the cash deposit rate will continue to be the company-specific rate published for the most recently-completed segment; (3) if the exporter is not a firm covered in this review, a prior review, or the original LTFV investigation, but the manufacturer is, the cash deposit rate will be the rate established for the most recently-completed segment of this proceeding for the manufacturer of the merchandise; and (4) the cash deposit rate for all other manufacturers or exporters will continue to be 36.52 percent, the all-others rate determined in the LTFV investigation.⁷ These cash deposit requirements, when imposed, shall remain in effect until further notice.

⁷ Id.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751(a)(1) and 777(i)(1) of the Act.

Dated: September 8, 2015.
Paul Piquado,
Assistant Secretary for Enforcement and Compliance.

Appendix I

List of Topics Discussed in the Issues and Decision Memorandum

Summary

Background

Margin Calculations

Scope of the Order

Discussion of Issues

1. Clerical Errors in Electrolux's Preliminary Dumping Margin

2. Electrolux's Affiliated Party Transactions

3. Methodological Issues in the Differential Pricing Analysis

4. Zeroing and Differential Pricing

5. Monthly Time Periods in Differential Pricing Analysis

[FR Doc. 2015-23158 Filed 9-14-15; 8:45 a.m.]

BILLING CODE 3510-DS-P